INTERNATIONAL TRADE COMMISSION

[USITC SE-16-029]

Government in the Sunshine Act Meeting Notice

AGENCY HOLDING THE MEETING: United States International Trade Commission.

TIME AND DATE: August 24, 2016 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-467 and 731-TA-1164-1165 (Review) (Narrow Woven Ribbons with Woven Selvedge from China and Taiwan). The Commission is currently scheduled to complete and file its determinations and views of the Commission on September 9, 2016.

5. Outstanding action jackets: None.

In accordance with Commission policy, subject matter listed above, not disposed of at the scheduled meeting, may be carried over to the agenda of the following meeting.

By order of the Commission.
Issued: August 15, 2016.
William R. Bishop,
Supervisory Hearings and Information Officer.

[FR Doc. 2016-19806 Filed 8-16-16; 11:15 am]

BILLING CODE 7020-02-P